DEPARTMENT OF LABOR

Employment and Training Administration

[TA-W-39,424]

Outboard Marine Corp. (OMC), The Ralph Evinrude Test Center, Stuart, Florida; Notice of Termination of Investigation

Pursuant to section 221 of the Trade Act of 1974, an investigation was initiated on June 18, 2001 in response to a worker petition which was filed on behalf of workers at Outboard Marine Corp. (OMC), The Ralph Evinrude Test Center, Stuart, Florida.

An active certification covering the petitioning group of workers is already in effect (TA-W-38,565, as amended). Consequently, further investigation in this case would serve no purpose, and the investigation has been terminated.

Signed in Washington, DC this 16th day of November, 2001.
Linda G. Poole,
Certifying Officer, Division of Trade Adjustment Assistance.

[FR Doc. 01-30057 Filed 12-4-01; 8:45 am]

BILLING CODE 4510-30-M